DEPARTMENT OF COMMERCE

National Oceanic and Atmospheric Administration

[I.D. 041405C]

North Pacific Fishery Management Council; Public Meeting

AGENCY: National Marine Fisheries Service (NMFS), National Oceanic and Atmospheric Administration (NOAA), Commerce.

ACTION: Notice of public meeting.

SUMMARY: The North Pacific Fishery Management Council (Council) Ecosystem Committee will meet by teleconference - 907-271-2896.

DATES: May 11, 2005, 8:30am (AST).

ADDRESSES: North Pacific Fishery Management Council, Anchorage, AK.

Council address: North Pacific Fishery Management Council, 605 W. 4th Ave., Suite 306, Anchorage, AK 99501-2252.

FOR FURTHER INFORMATION CONTACT: Chris Oliver, Council staff, Phone: 907-271-2809.

SUPPLEMENTARY INFORMATION: The Committee will discuss recommendations on the Aleutian Islands area-specific management discussion paper. The Committee may also receive updates on the development of National 1 guidelines for ecosystem-based fishery management and the Council Chairs/Executive Directors' meeting; and may discuss the role of the North Pacific Fishery Management Council in developing an ecosystem approach to management.

Special Accommodations

These meetings are physically accessible to people with disabilities. Requests for sign language interpretation or other auxiliary aids should be directed to Gail Bendixen at 907-271-2809 at least 7 working days prior to the meeting date.

April 14, 2005.
Emily Menashes,
Acting Director, Office of Sustainable Fisheries, National marine Fisheries Service.

[FR Doc. E5-1842 Filed 4-18-05; 8:45 am]

BILLING CODE 3510-22-S